COMMITTEE FOR PURCHASE FROM PEOPLE WHO ARE BLIND OR SEVERELY DISABLED

Procurement List; Proposed Additions and Deletions

AGENCY: Committee for Purchase From People Who Are Blind or Severely Disabled.

ACTION: Proposed Additions to and Deletions From the Procurement List.

SUMMARY: The Committee is proposing to add products and a service to the Procurement List that will be furnished by nonprofit agencies employing persons who are blind or have other severe disabilities, and deletes products and services previously furnished by such agencies.

DATES: Comments must be received on or before: May 31, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

3612-00-NIB-0002—3D Printer Filament, Acrylonitrile Butadiene Styrene, Black,1kg of 1.75 mm

3612-00-NIB-0003—3D Printer Filament, Acrylonitrile Butadiene Styrene, White 1kg of 1.75 mm

3612-00-NIB-0004—3D Printer Filament, Acrylonitrile Butadiene Styrene, Natural,1kg of 1.75 mm

3612-00-NIB-0005—3D Printer Filament, Polylactic Acid, Black,1kg of 1.75 mm

3612-00-NIB-0006—3D Printer Filament, Polylactic Acid, White,1kg of 1.75 mm

3612-00-NIB-0007—3D Printer Filament, Polylactic Acid, Natural,1kg of 1.75 mm

3612-00-NIB-0008—3D Printer Filament, Nylon, Black,1kg of 1.75 mm

3612-00-NIB-0010—3D Printer Filament, Nylon, Natural,1kg of 1.75 mm

Mandatory Source of Supply: North Central Sight Services, Inc., Williamsport, PA

Mandatory For: Total Government Requirement

Contracting Activity: Federal Acquisition Service, GSA/FAS Furniture Systems MGT DIV

NSNs—Product Names:

MR 13052—Bento Box, 1 Compartment

MR 13053—Bento Box, 2 Compartments

MR 13054—Bento Box, 3 Compartments

MR 13055—Bento Box, Round, 2 Compartments

Mandatory Source of Supply: Winston-Salem Industries for the Blind, Inc., Winston-Salem, NC

Contracting Activity: Military Resale-Defense Commissary Agency

Service

Service Type: Facility Maintenance Support Services

Mandatory for: U.S. Marshalls Service, Marshalls Service Tactical Operations Center, Camp Beauregard, Pineville, LA

Mandatory Source of Supply: Rising Star Resource Development Corporation, Dallas, TX

Contracting Activity: U.S. Dept of Justice, USMS

Deletions

The following products and services are proposed for deletion from the Procurement List:

Products

NSN—Product Name:

6160-01-184-0643—Retainer Battery

Mandatory Source of Supply: The Lighthouse for the Blind, Inc. (Seattle Lighthouse), Seattle, WA

Contracting Activity: DLA Aviation, Richmond, VA

NSN—Product Name:

MR 13110—Cake Cutter, Slice N' Easy

Mandatory Source of Supply: Winston-Salem Industries for the Blind, Inc., Winston-Salem, NC

Contracting Activity: Military Resale-Defense Commissary Agency

NSNs—Product Names:

7340-00-J19-1300—Spoon, Picnic, Plastic

7340-00-J19-1300a—Spoon, Picnic, Plastic

7340-00-J19-2052a—Spoon, Picnic, Plastic

Mandatory Source of Supply: LC Industries, Inc., Durham, NC

Contracting Activity: DLA Troop Support, Philadelphia, PA

Services

Service Type: Mailroom Operation

Mandatory for: 14th U.S. Coast Guard District, 300 Ala Moana Boulevard, Honolulu, HI

Mandatory Source of Supply: Goodwill Contract Services of Hawaii, Inc., Honolulu, HI

Contracting Activity: U.S. Coast Guard, SILC BSS

Service Type: Food Service Attendants

Mandatory for: New Hampshire Air National Guard, Pease Air National Guard Base, Pease ANGB, NH

Mandatory Source of Supply: CW Resources, Inc., New Britain, CT

Contracting Activity: Dept of the Army, W7NN USPFO Activity NH ARNG

Service Type: Janitorial/Custodial

Mandatory for: US Army, IL027 Forest Park AFRC, Forest Park, IL

Mandatory Source of Supply: Jewish Child and Family Services, Chicago, IL

Contracting Activity: Dept of the Army, W6QM MICC FT McCoy (RC)

Michael R. Jurkowski,
Deputy Director, Business & PL Operations.

[FR Doc. 2020-09326 Filed 4-30-20; 8:45 am]

BILLING CODE 6353-01-P